DEPARTMENT OF ENERGY

Federal Energy Regulatory Commission

Notice of Application To Amend License and Soliciting Comments, Recommendations, Motions To Intervene, and Protests

April 4, 2001.

Take notice that the following hydroelectric application has been filed with the commission, is ready for environmental analysis, and is available for public inspection:

a. Application Type: Request for amendment of license to change the water surface elevation limits for the upper reservoir and an increase in the maximum daily generation for up to twenty days over a period of twelve months.

b. Project No.: 2485-015.

c. Date Filed: April 2, 2001.

d. Applicant: Northeast Generation Company (NGC).

e. Name of Project: Northfield Mountain Pumped Storage Hydroelectric Project.

f. Location: The project is located on the east side of the Connecticut River, in the towns of Northfield and Erving, in Franklin County, Massachusetts. The project does not utilize federal or tribal lands.

g. Filed Pursuant to: 18 CFR 4.201.

h. Applicant Contact: Mr. William J. Nadeau, Vice President and Chief Operating Officer, Northeast Generation Services Company, 273 Dividend Road, Rocky Hill, Connecticut 06067, (860) 665-5315 with copies of all correspondence and communications to:

Mr. John Howard, Station Manager, Northfield Mountain Station, 99 Millers Falls Road, Northfield, Massachusetts 01360, (413) 659-4489; and

Catherine E. Shively, Senior Counsel, Public Service Company of New Hampshire, P.O. Box 330, Manchester, New Hampshire 03105, (603) 624-2326

i. FERC Contact: Any questions on this notice should be addressed to Jack Duckworth at (202) 219-2818, or e-mail address jack.duckworth@ferc.fed.us.

j. Deadline for Filing Comments and or Motions: 30 days from the issuance date of this notice.

All documents (original and eight copies) should be filed with: David P. Boergers, Secretary, Federal Energy Regulatory Commission, 888 First Street, NE., Washington, DC 20426. Comments, protests and interventions may be filed electronically via the internet in lieu of paper. See 18 CFR 385.2001(a)(1)(iii) and the instructions on the Commission's web site at http://www.ferc.fed.us/efi/doorbell.htm.

Please include the Project Number (2485-015) on any comments or motions filed.

k. Description of Amendment: NGC seeks temporary authorization to change the upper reservoir's upper and lower water service elevation limits from 1000.5 and 938 feet, respectively, to 1004.5 and 920 feet, respectively and to allow maximum daily generation of 10,465 megawatthours for up to 20 days during the twelve months following issuance of the temporary license amendment. The project uses some of the storage behind Turner Falls Dam of Project No. 1889 as the lower reservoir for the pumped storage operations and proposes no changes in the operating limits of the Turners Falls Reservoir. NGC requests that the temporary authority become effective June 1, 2001.

l. Locations of the Application: A copy of the application is available for inspection and reproduction at the Commission's Public Reference Room, at 888 First Street NE., Room 2A, Washington, DC, 20426, or by calling (202) 208-1371. The application may be viewed on the website at www.ferc.fed.us. Call (202) 208-2222 for assistance. A copy is also available for inspection and reproduction at the address in item h above.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-8774 Filed 4-9-01; 8:45 am]

BILLING CODE 6717-01-M